DEPARTMENT OF ENERGY

Agency Information Collection Extension/Revision

AGENCY: U.S. Department of Energy.

ACTION: Notice and request for comments.

SUMMARY: The Department of Energy (DOE) has submitted to the Office of Management and Budget (OMB) for clearance, a proposal for a three-year extension of collections of information pursuant to the Paperwork Reduction Act of 1995. The collections are used by DOE to exercise management oversight and control over its contractors.

DATES: Comments regarding this proposed information collection must be received on or before January 26, 2018. If you anticipate difficulty in submitting comments within that period of time allowed by this notice, please advise the OMB Desk Officer of your intention to make a submission as soon as possible. The Desk Officer may be telephoned at (202) 395-4718.

ADDRESSES: Written comments should be sent to the DOE Desk Officer, Office of Information and Regulatory Affairs, Office of Management and Budget, New Executive Office Building, Room 10102, 735 17th Street NW, Washington, DC 20503, and to Sandra K. Dentinger, AU-70/E-455 Germantown Building, U.S. Department of Energy, 1000 Independence Ave. SW, Washington, DC 20585-1290 or by fax at 301-903-0048, by email at Sandra.Dentinger@hq.doe.gov, or information about the collection instruments may be obtained at: https://energy.gov/ehss/information-collection.

FOR FURTHER INFORMATION CONTACT: Requests for additional information or copies of the information collection instrument and instructions should be directed to the person listed above in ADDRESSES.

SUPPLEMENTARY INFORMATION: This information collection request contains: (1) OMB No. 1910-1800; (2) Information Collection Request Title: Security; (3) Type of Review: Renewal/revision; (4) Purpose: The collections are used by DOE to exercise management oversight and control over its contractors that provide goods and services for DOE organizations and activities in accordance with the terms of their contracts and the applicable statutory, regulatory, and mission support requirements of the Department. Information collected is for (1) Foreign Ownership, Control or Influence data from bidders on DOE contracts requiring personnel security clearances; and (2) individuals in the process of applying for a security clearance/access authorization or who already hold one. The collections are: DOE Form 5631.18, Security Acknowledgement; DOE F 5631.20, Request for Visitor Access Approval; DOE Form 5631.29, Security Termination Statement; DOE F 5631.34, Data Report on Spouse/Cohabitant; DOE Form 5631.5, The Conduct of Personnel Security Interviews; DOE Form 5639.3 Report of Security Incident/Infraction; DOE F 471.1, Security Incident Notification Report; DOE Form 472.3 Foreign Citizenship Acknowledgement; DOE Form 473.2, Security Badge Request; DOE Form 473.3, U.S. Department of Energy Clearance Access Request; Influence (e-FOCI) System as required by DOE Order 470.4B, Safeguards and Security Program, Section 2; and the Foreign Access Central Tracking System (FACTS); (5) Estimated Number of Respondents: 86,893; (6) Annual Estimated Number of Total Responses: 86,893; (7) Annual Estimated Number of Burden Hours: 11,296; (8) Annual Estimated Reporting and Recordkeeping Cost Burden: 0.

Statutory Authority: Section 641 of the Department of Energy Organization Act, codified at 42 U.S.C. 7251, and the following additional authorities:

DOE F 5631.34, Data Report on Spouse/Cohabitant: Section 145(b) of the Atomic Energy Act of 1954, as amended, codified at 42 U.S.C. 2165; Executive Order 12968 (August 2, 1995); Executive Order 10865 (February 20, 1960); Executive Order 10450 (April 27, 1953); DOE O 472.2 (July 21, 2011).

Security Incident Notification Report and Report of Preliminary Security Incident/Infraction (DOE F 471.1 and DOE F 5639.3): Executive Order 13526 (December 29, 2009); 32 CFR part 2001; DOE O 470.4B (July 21, 2011).

DOE F 5631.20, Request for Visitor Access Approval: Section 145(b) of the Atomic Energy Act of 1954, as amended, codified at 42 U.S.C. 2165.

DOE Form 5631.18, Security Acknowledgement: Section 145(b) of the Atomic Energy Act of 1954, as amended, codified at 42 U.S.C. 2165; Executive Order 13526 (December 29, 2009); Executive Order 10865 (Feb. 20, 1960); Executive Order 10450 (April 27, 1953); DOE O 5631.2C (February 17, 1994).

DOE Form 5631.29, Security Termination Statement: Section 145(b) of the Atomic Energy Act of 1954, as amended, codified at 42 U.S.C. 2165; Executive Order 13526 (December 29, 2009); Executive Order 10865 (Feb. 20, 1960); Executive Order 10450 (Apr. 27, 1953); 32 CFR part 2001; DOE O 472.2 (July 21, 2011).

DOE Form 5631.5, The Conduct of Personnel Security Interviews: 10 CFR part 710; Executive Order 12968 (Aug. 2, 1995); Executive Order 10450 (April 27, 1953); DOE Order 472.2 (July 21, 2011).

DOE F 471.1, Security Incident Notification Report; DOE Form 472.3 Foreign Citizenship Acknowledgement; and DOE Form 473.2, Security Badge Request; the Atomic Energy Act of 1954, as amended, and by Executive Orders 13764, 10865, and 13526.

Electronic Foreign Ownership, Control or Influence (e-FOCI) System: Executive Order 12829 (January 6, 1993); DOE O 470.4B (July 21, 2011).

Foreign Access Central Tracking System (FACTS): Presidential Decision Directive 61 (February 1999); DOE O 142.3A (October 14, 2010).

Issued in Washington, DC, on December 19, 2017.
Stephanie K. Martin,
Director, Office of Resource Management, Office of Environment, Health, Safety and Security.

[FR Doc. 2017-27878 Filed 12-26-17; 8:45 am]

BILLING CODE 6450-01-P